DEPARTMENT OF ENERGY

Federal Energy Regulatory Commission

[Docket No. RP03-47-001]

Gulf South Pipeline Company, LP; Notice of Compliance Filing

June 3, 2003.

Take notice that on May 30, 2003, Gulf South Pipeline Company, LP (Gulf South) tendered for filing as part of its FERC Gas Tariff, Sixth Revised Volume No. 1, the following tariff sheets, to become effective May 1, 2003.

Substitute First Revised Sheet No. 902

Substitute Original Sheet No. 903

Sheet Nos. 904—999

Substitute Third Revised Sheet No. 1709

Second Sub. Second Rev. Sheet No. 1710

First Revised Sheet No. 1711

Sheet Nos. 1712—1799

Gulf South states that this filing establishes a minimum volume threshold for the connection of new receipt and delivery points and requires certain gas quality control equipment be installed at certain receipt points. Gulf South states that this filing is submitted in compliance with the Commission's Order dated May 1, 2003, in Docket No. RP03-47-000.

Any person desiring to protest said filing should file a protest with the Federal Energy Regulatory Commission, 888 First Street, NE., Washington, DC 20426, in accordance with § 385.211 of the Commission's rules and regulations. All such protests must be filed in accordance with § 154.210 of the Commission's regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: June 11, 2003.

Magalie R. Salas,
Secretary.

[FR Doc. 03-14505 Filed 6-9-03; 8:45 am]

BILLING CODE 6717-01-P